DEPARTMENT OF ENERGY

Federal Energy Regulatory Commission

18 CFR Part 388

[Docket Nos. RM02-4-000]

Notice of Extension of Time

March 6, 2002.

AGENCY: Federal Energy Regulatory Commission.

ACTION: Notice of extension of time.

SUMMARY: On January 16, 2002, the Commission issued a Notice of Inquiry (NOI) to determine whether to revise its rules to address public availability of critical infrastructure information (67 FR 3129, January 23, 2002). The Commission is extending the date for filing responses to the NOI at the request of several major trade associations involved in energy infrastructure.

DATES: Comments should be filed on or before March 25, 2002.

ADDRESSES: Office of the Secretary, Federal Energy Regulatory Commission, 888 1st Street, NE., Washington, DC 20426.

FOR FURTHER INFORMATION CONTACT: Carol C. Johnson, Office of the General Counsel, Federal Energy Regulatory Commission, 888 First Street, NE., Washington, DC 20426, (202) 208-0457.

Rule Regarding Critical Energy Infrastructure Information and Policy Statement on the Treatment of Previously Public Documents; Notice of Extension of Time

On March 5, 2002, the Alliance of Energy Suppliers (Alliance), Edison Electric Institute (EEI), Electric Power Supply Association (EPSA), Interstate Natural Gas Association of America (INGAA), and National Hydropower Association (NHA) filed a joint request for an extension of time to file comments in response to the Commission's Notice of Inquiry and Guidance for Filings in the Interim issued January 16, 2002, in Docket No. RM02-4-000. The motion states that because the issues addressed in the NOI are of significant importance to each of the associations joining in this request and because each represents major sectors of the energy industry that will be directly affected by Commission's policy on Critical Energy Infrastructure Information, additional time is needed to allow the associations to pursue further discussions and to prepare complete responses to the NOI.

Upon consideration, notice is hereby given that an extension of time for filing responses to the Commission's January 16, 2002, NOI is granted to and including March 25, 2002.

Magalie R. Salas,
Secretary.

[FR Doc. 02-5972 Filed 3-12-02; 8:45 am]

BILLING CODE 6717-01-M